POSTAL REGULATORY COMMISSION

39 CFR Part 3020

[Docket No. RM2016-8; Order No. 3213]

Mail Classification Schedule

AGENCY: Postal Regulatory Commission.

ACTION: Proposed rulemaking.

SUMMARY: The Commission is proposing rules which amend existing rules related to the Mail Classification Schedule and its associated product lists. The proposed rules revise some existing rules in order to better conform with current Commission practices related to the Mail Classification Schedule. The Commission invites public comment on the proposed rules.

DATES: Comments are due: May 12, 2016.

FOR FURTHER INFORMATION CONTACT: David A. Trissell, General Counsel, at 202-789-6820.

SUPPLEMENTARY INFORMATION:

Table of Contents

I. Introduction

II. History

III. Rule Modifications

IV. Public Representative

V. Invitation of Comments

VI. Ordering Paragraphs

I. Introduction

This rulemaking is initiated by the Postal Regulatory Commission (Commission) to fulfill its responsibilities under the Postal Accountability and Enhancement Act (PAEA), Public Law 109-435, 120 Stat. 3198 (2006). The proposed rules amend existing rules concerning the Mail Classification Schedule (MCS) and the associated market dominant and competitive product lists. The proposals amend existing rules to conform to the current practice of publishing the MCS on the Commission's Web site at www.prc.gov, noticing changes to the market dominant and competitive product lists in the Federal Register, and publishing the market dominant and competitive product lists in the Code of Federal Regulations (CFR).

The proposed rules replace existing 39 CFR part 3020, subpart A in its entirety. Conforming changes also are proposed for 39 CFR part 3020, subparts B, C, and D. The proposed text for these rules appears after the signature of this Order.

II. History

On October 29, 2007, the Commission issued Order No. 43, which in part established rules concerning the MCS, and the market dominant and competitive product lists.¹ It also directed publication of an MCS outline in the CFR that was limited to a table of contents and the market dominant and competitive product lists. Order No. 43, Appendix A. These rules, including the appendix, were codified at 39 CFR part 3020.

¹ Docket No. RM2007-1, Order Establishing Ratemaking Regulations for Market Dominant and Competitive Products, October 29, 2007, at 99-108, 138-154 (Order No. 43); 72 FR 64155, November 15, 2007.

The Commission, in Docket No. RM2007-1, also began the process of developing a comprehensive MCS.² This task was not complete at the time the Commission issued Order No. 43.

² Docket No. RM2007-1, Order No. 26, Order Proposing Regulations to Establish a System of Ratemaking, August 15, 2007, at 2, 82-83; 72 FR 50744, September 4, 2007. See also Order No. 43 at 99.

When an initial proposed MCS was complete, the Commission initiated Docket No. RM2011-8 to incorporate it into the CFR.³ The proposed MCS was to replace the existing outline of the MCS. The Commission solicited and received comments on both the proposed MCS and the corresponding rules. The suggestions provided in the comments were extremely helpful in further developing the MCS and have been incorporated into the rule proposals appearing in the instant rulemaking.

³ Docket No. RM2011-8, Order No. 666, Notice of Proposed Rulemaking Concerning Mail Classification Schedule, February 7, 2011; Docket No. RM2011-8, Order No. 758, Notice of Proposed Rulemaking Concerning Mail Classification Schedule (Revising Order No. 666), July 12, 2011; 76 FR 51311 (Aug. 18, 2011) (to be codified at 39 CFR part 3020, subpart A).

From an administrative perspective, the rulemaking also required the Commission to develop internal procedures for implementing the proposed rules. This included procedures for publishing timely updates to the MCS and the associated product lists appearing in the CFR. Because of the continuous flow of Postal Service proposals to add or modify products, the Commission recognized that keeping the CFR-published MCS and the associated product lists current would require updates on a weekly, if not daily, basis. With the procedures envisioned and the anticipated frequency of updates, the Commission concluded that it would incur prohibitive publication costs and challenging resource burdens.⁴

⁴ The Commission also explored a “publication by reference” approach with the Federal Register. This approach presented an equal number of challenges to the Commission and was dropped from consideration.

In the interim, the Postal Service and the Commission each maintained versions of the MCS. The Postal Service used its version when presenting price and classification proposals to the Commission for evaluation. This required the Commission to first resolve any differences between the Commission's version of the MCS and the Postal Service's version of the MCS before considering the Postal Service's proposals.

On April 1, 2013, the Commission published its version of the MCS to the Commission's Web site.⁵ This provided visibility to all interested persons participating in Commission proceedings as to current prices and classifications. From this point forward, the Postal Service submitted its proposed price and classification changes based on this version of the MCS.

⁵ Notice of Posting Draft Mail Classification Schedule to the Commission's Web site, April 1, 2013. At this stage in the development of the MCS, the Commission's version and the Postal Service's version were nearly identical.

The Commission developed internal procedures for updating the draft MCS appearing on its Web site on approximately a monthly basis. The Commission displays all changes in redline, as had been requested by the Postal Service. The redline changes are incorporated, and a new baseline MCS created, at the conclusion of major price or classification proceedings. All prior versions of the MCS are archived and available on the Web site for reference.

The Commission also developed internal procedures for publishing product list changes in the Federal Register and for updating the outline MCS appearing in the CFR. The Commission, at that time, removed the table of contents from the outline MCS and simply provided current market dominant and competitive product lists.⁶ The Commission also elected to notice product list changes in the Federal Register and update the product lists in the CFR on approximately a quarterly basis. Internal Commission procedures were implemented to compile product list changes directed by Commission orders by calendar quarter. The compiled list of changes are noticed in the Federal Register and are used to update the outline MCS appearing in the CFR shortly after the close of each calendar quarter.

⁶ The table of contents was hopelessly outdated and contradicted the table of contents appearing in the MCS appearing on the Commission's Web site.

The instant rulemaking proposes to codify the current practice, as described in the above procedures. The MCS appearing on the Web site has proven effective in documenting current prices and classifications and in facilitating communications of the Postal Service's proposed price and classification changes to the Commission. The procedures for noticing product list changes in the Federal Register and updating product lists in the CFR fulfill the statutory requirements for publishing revised product lists.

The effect of the rulemaking is to make the version of the MCS appearing on the Commission's Web site the authoritative and most up to date comprehensive source for price and classification information for Postal Service products.⁷ In keeping with current practice, the proposed rules codify that product lists will continue to be published in the CFR, with notice of changes published in the Federal Register. The proposed rules no longer indicate that the MCS will be published in the CFR.

⁷ The proposed rules recognize the immediate binding effect of the Commission's final orders on the Postal Service, subject to statutory challenge, and the inherent time lag in updating product lists and the MCS.

III. Rule Modifications

The Commission's existing rules concerning the MCS, which include the associated market dominant and the competitive product lists, are codified at 39 CFR part 3020, subpart A—Mail Classification Schedule. An abridged version of the MCS (which only includes the market dominant and competitive product lists) is codified at 39 CFR part 3020, Appendix A to subpart A—Mail Classification Schedule.

This rulemaking codifies current practice. The product lists and the MCS will be treated as separate items. Only the product lists are noticed in the Federal Register and published in the CFR. The MCS will be available on the Commission's Web site.⁸ Conforming changes are also required in 39 CFR part 3020, subparts B, C, and D.

⁸ For the convenience of the reader, the MCS will include copies of the market dominant and competitive product lists.

The title of subpart A is changed from “Mail Classification Schedule” to “Product Lists and Mail Classification Schedule.” The addition of “Product Lists” to the title more accurately describes the content of subpart A.

The existing § 3020.1, “Applicability,” specifies that the market dominant and competitive product lists are to be included as part of the MCS. The proposed § 3020.1 describes the product lists and the MCS as separate items.

Proposed § 3020.1(a) clarifies that it is the Commission's responsibility to establish and maintain lists of Postal Service products and a MCS.

Proposed § 3020.1(b) replaces existing § 3020.1(a). Both specify that the starting point for the product lists are the market dominant products identified in 39 U.S.C. 3621(a) and the competitive products identified in 39 U.S.C. 3631(a). Proposed § 3020.1(b) expands upon this requirement by including products within the product lists identified as market tests pursuant to 39 U.S.C. 3641 and nonpostal pursuant to 39 U.S.C. 404(e). This flows from the requirement for the Postal Service to properly categorize market tests as either market dominant or competitive (39 U.S.C. 3641(b)(2)) and the Commission to properly categorize nonpostal services as either market dominant or competitive (39 U.S.C. 404(e)(5)).⁹

⁹ This change was adopted at the suggestion of the Docket No. RM2011-8 Public Representative. Docket No. RM2011-8, Public Representative Comments on Notice of Proposed Rulemaking Concerning Mail Classification Schedule, March 24, 2011, at 5.

Proposed § 3020.1(c) states the purpose of the MCS as providing current price and classification information applicable to the products appearing on the market dominant and competitive product lists.

Proposed § 3020.1(d) modifies the material previously included in existing § 3020.1(b) by addressing the product lists and the MCS as two separate items. The proposed section provides that either item may be modified subject to the procedures in 39 CFR part 3020.

Proposed § 3020.2 directs that the market dominant and competitive product lists shall be published in the Federal Register as appendix A to subpart A of part 3020 and appendix B to subpart A of part 3020, respectively. Currently, an abridged version of the MCS, which includes only the market dominant and competitive product lists, is published in the Federal Register as appendix A to subpart A of part 3020. The intent of the existing rule was to eventually publish the entire MCS in the Federal Register. The intent of the proposed rule is to implement current practice and only publish the market dominant and competitive product lists in the Federal Register. Providing a separate appendix for each product list is intended to potentially reduce Federal Register publication costs when modifications are required of one product list but not the other.

Proposed § 3020.3 explains how product lists are modified and how the public is notified of such changes. This section replaces and expands upon the material previously appearing in existing § 3020.14. Generally, § 3020.3 implements the publication requirement appearing in 39 U.S.C. 3642(d)(2), which requires Federal Register notice of product list changes.

Proposed § 3020.3(a) explains that the requirement to publish notice of a product list change is triggered by a Commission final order that directs such changes.

The current practice of the Commission is to accumulate all final orders involving changes to product lists and to file a product list update with the Federal Register on a quarterly basis. Proposed § 3020.3(b) sets a maximum 6-month deadline for filing the quarterly update. This essentially provides a maximum of 3 months from the quarterly accumulation cutoff date to process and submit the changes to the Federal Register.

The Commission's position is that Commission orders issued within its jurisdiction are binding upon the Postal Service when issued, unless challenged pursuant to 39 U.S.C. 3663. Accordingly, § 3020.3(c) specifies that changes to product lists are effective upon issuance of the final order, and not upon publication in the Federal Register, which generally occurs at a later date.

Proposed § 3020.3(d) specifies the content of the Federal Register notice consistent with the requirements of 39 U.S.C. 3642(d)(2). This material previously appeared in existing § 3020.14.

Since April 1, 2013, the MCS has been available on the Commission's Web site at www.prc.gov. Proposed § 3020.4(a) directs the Commission to publish the authoritative version of the MCS on its Web site. Proposed § 3020.4(b) describes the minimum required content of the MCS. This material previously appeared in existing § 3020.13.

Proposed § 3020.5 explains that modifications to the MCS are triggered by Commission final orders directing such changes.

The current practice of the Commission is to accumulate all final orders involving changes to the MCS and to update it on a monthly basis. Proposed § 3020.5(b) sets a maximum 3-month deadline for filing the quarterly update. This essentially provides a maximum of 2 months from the quarterly accumulation cutoff date to process and post a revised MCS to the Web site.

The Commission's position is that its orders are binding upon the Postal Service when issued, unless challenged pursuant to 39 U.S.C. 3663. Accordingly, § 3020.3(c) specifies that changes to the MCS are effective upon issuance of the final order, and not once the MCS is actually modified, which generally occurs at a later date.

The titles to 39 CFR part 3020, subparts B, C, and D and §§ 3020.30, 3020.50, and 3020.70 refer to the product lists as being within the MCS. Conforming changes are proposed to remove this reference.

IV. Public Representative

Pursuant to 39 U.S.C. 505, Kenneth E. Richardson is appointed to serve as an officer of the Commission (Public Representative) to represent the interests of the general public in this docket.

V. Invitation of Comments

The Commission invites public comment on the proposed rules. Comments by interested persons are due 30 days after publication in the Federal Register.

VI. Ordering Paragraphs

It is ordered:

1. Docket No. RM2016-8 is established for the purpose of receiving comments on the Commission's proposed rules.

2. The Commission proposes to amend its rules as described below. The proposed amendments involve amending 39 CFR part 3020, subpart A—Mail Classification Schedule, and conforming amendments to subparts B, C, and D.

3. Pursuant to 39 U.S.C. 505, the Commission appoints Kenneth E. Richardson to serve as an officer of the Commission (Public Representative) to represent the interests of the general public in this proceeding.

4. Interested persons may submit comments no later than 30 days after the date of publication of this Order in the Federal Register.

5. The Secretary shall arrange for publication of this Order in the Federal Register.

By the Commission.
Stacy L. Ruble,
Secretary.

List of Subjects in 39 CFR Part 3017

Administrative practice and procedure.

For the reasons discussed in the preamble, the Commission proposes to amend chapter III of title 39 of the Code of Federal Regulations as follows:

PART 3020—PRODUCT LISTS

1. The authority citation for part 3020 continues to read as follows:

Authority: 39 U.S.C. 503; 3622; 3631; 3642; 3682.

2. Revise subpart A of part 3020 to read as follows:

Subpart A—Product Lists and the Mail Classification Schedule

Sec.
3020.1 Applicability.
3020.2 Product lists.
3020.3 Notice of product list change.
3020.4 Mail Classification Schedule.
3020.5 Modifications to the Mail Classification Schedule.
Appendix A to Subpart A of Part 3020—Market Dominant Product List
Appendix B to Subpart A of Part 3020—Competitive Product List

§ 3020.1 Applicability.

(a) The rules in this part require the Postal Regulatory Commission to establish and maintain lists of Postal Service products and a Mail Classification Schedule.

(b) The product lists shall categorize postal products as either market dominant or competitive. As established, the market dominant and competitive product lists—shall be consistent with the market dominant products identified in 39 U.S.C. 3621(a) and the competitive products identified in 39 U.S.C. 3631(a). The market dominant and competitive product lists shall also include products identified as market tests pursuant to 39 U.S.C. 3641 and nonpostal pursuant to 39 U.S.C. 404(e).

(c) The Mail Classification Schedule shall provide current price and classification information applicable to the products appearing on the market dominant and competitive product lists.

(d) Once established, the product lists and the Mail Classification Schedule may be modified subject to the procedures specified in this part.

§ 3020.2 Product lists.

(a) Market dominant product list. The market dominant product list shall be published in the Federal Register at Appendix A to subpart A of part 3020—Market Dominant Product List.

(b) Competitive product list. The competitive product list shall be published in the Federal Register at Appendix B to subpart A of part 3020—Competitive Product List.

§ 3020.3 Notice of product list change.

(a) Whenever the Postal Regulatory Commission issues a final order that modifies the list of products in the market dominant category or the competitive category, it shall cause notice of such change to be published in the Federal Register.

(b) Notice shall be submitted to the Federal Register for publication within 6 months of the issue date of the applicable final order that affects the change.

(c) Modifications pending publication in the Federal Register are effective immediately upon written direction from the Postal Regulatory Commission.

(d) The Federal Register notice shall:

(i) Identify modifications to the current list of market dominant products and the current list of competitive products; and

(ii) Indicate how and when the previous product lists have been modified.

§ 3020.4 Mail Classification Schedule.

(a) The Postal Regulatory Commission shall publish a Mail Classification Schedule (including both current and previous versions) on its Web site at http://www.prc.gov. Copies of the Mail Classification Schedule also shall be available during regular business hours for reference and public inspection at the Postal Regulatory Commission located at 901 New York Avenue NW., Suite 200, Washington, DC 20268-0001.

(b) The Mail Classification Schedule shall include, but shall not be limited to: (1) Front matter, including:

(i) A cover page identifying the title of the document as the Mail Classification Schedule, the source of the document as the Postal Regulatory Commission (including Commission seal), and the publication date;

(ii) A table of contents;

(iii) A table specifying the revision history of the Mail Classification Schedule; and

(iv) A table identifying Postal Service trademarks; and

(2) Information concerning market dominant products, including:

(i) A copy of the Market Dominant Product List;

(ii) Descriptions of each market dominant product organized by the class of product, including:

(A) Where applicable, the general characteristics, size and weight limitations, minimum volume requirements, price categories, and available optional features of each market dominant product;

(B) A schedule listing the rates and fees for each market dominant product;

(C) Where applicable, the identification of a product as a special classification within the meaning of 39 U.S.C. 3622(c)(10) for market dominant products;

(D) Where applicable, the identification of a product as an experimental product undergoing a market test; and

(E) Where applicable, the identification of a product as a nonpostal product; and

(3) Information concerning competitive products, including:

(i) A copy of the competitive product list; and

(ii) Descriptions of each competitive product, including:

(A) Where applicable, the general characteristics, size and weight limitations, minimum volume requirements, price categories, and available optional features of each competitive product;

(B) A schedule listing the current rates and fees for each competitive product of general applicability;

(C) The identification of each product not of general applicability within the meaning of 39 U.S.C. 3632(b)(3) for competitive products;

(D) Where applicable, the identification of a product as an experimental product undergoing a market test; and

(E) Where applicable, the identification of a product as a nonpostal product; and

(4) A glossary of terms and conditions; and

(5) A list of country codes for international mail prices.

§ 3020.5 Modifications to the Mail Classification Schedule.

(a) Whenever the Postal Regulatory Commission issues a final order that modifies the Mail Classification Schedule, it shall update the Mail Classification Schedule appearing on its Web site at http://www.prc.gov.

(b) Modification to the Mail Classification Schedule shall be incorporated within 3 months of the issue date of the final order.

(c) Modifications pending incorporation into the Mail Classification Schedule are effective immediately upon written direction from the Postal Regulatory Commission.

Appendix A to Subpart A of Part 3020—Market Dominant Product List

(An asterisk (*) indicates an organizational group, not a Postal Service product.)

First-Class Mail *

Single-Piece Letters/Postcards

Presorted Letters/Postcards

Flats

Parcels

Outbound Single-Piece First-Class Mail International

Inbound Letter Post

Standard Mail (Commercial and Nonprofit) *

High Density and Saturation Letters

High Density and Saturation Flats/Parcels

Carrier Route

Letters

Flats

Parcels

Every Door Direct Mail—Retail

Periodicals *

In-County Periodicals

Outside County Periodicals

Package Services *

Alaska Bypass Service

Bound Printed Matter Flats

Bound Printed Matter Parcels

Media Mail/Library Mail

Special Services *

Ancillary Services

International Ancillary Services

Address Management Services

Caller Service

Credit Card Authentication

International Reply Coupon Service

International Business Reply Mail Service

Money Orders

Post Office Box Service

Customized Postage

Stamp Fulfillment Services

Negotiated Service Agreements *

Domestic *

PHI Acquisitions, Inc. Negotiated Service Agreement

International *

Inbound Market Dominant Multi-Service Agreements with Foreign Postal Operators 1

Inbound Market Dominant Exprés Service Agreement 1

Nonpostal Services *

Alliances with the Private Sector to Defray Cost of Key Postal Functions Philatelic Sales

Market Tests *

Appendix B to Subpart A of Part 3020—Competitive Product List

(An asterisk (*) indicates an organizational class or group, not a Postal Service product.)

Domestic Products *

Priority Mail Express

Priority Mail

Parcel Select

Parcel Return Service

First-Class Package Service

Retail Ground

International Products *

Outbound International Expedited Services

Inbound Parcel Post (at UPU rates)

Outbound Priority Mail International

International Priority Airmail (IPA)

International Surface Air List (ISAL)

International Direct Sacks—M-Bags

Outbound Single-Piece First-Class Package International Service

Negotiated Service Agreements *

Domestic *

Priority Mail Express Contract 8

Priority Mail Express Contract 15

Priority Mail Express Contract 16

Priority Mail Express Contract 17

Priority Mail Express Contract 18

Priority Mail Express Contract 19

Priority Mail Express Contract 20

Priority Mail Express Contract 21

Priority Mail Express Contract 22

Priority Mail Express Contract 23

Priority Mail Express Contract 24

Priority Mail Express Contract 25

Priority Mail Express Contract 26

Priority Mail Express Contract 27

Priority Mail Express Contract 28

Priority Mail Express Contract 29

Priority Mail Express Contract 30

Priority Mail Express Contract 31

Priority Mail Express Contract 32

Priority Mail Express Contract 33

Priority Mail Express Contract 34

Priority Mail Express Contract 35

Parcel Return Service Contract 5

Parcel Return Service Contract 6

Parcel Return Service Contract 7

Parcel Return Service Contract 8

Parcel Return Service Contract 9

Parcel Return Service Contract 10

Priority Mail Contract 24

Priority Mail Contract 29

Priority Mail Contract 33

Priority Mail Contract 56

Priority Mail Contract 57

Priority Mail Contract 58

Priority Mail Contract 59

Priority Mail Contract 60

Priority Mail Contract 61

Priority Mail Contract 62

Priority Mail Contract 63

Priority Mail Contract 64

Priority Mail Contract 65

Priority Mail Contract 66

Priority Mail Contract 67

Priority Mail Contract 70

Priority Mail Contract 71

Priority Mail Contract 72

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 89

Priority Mail Contract 90

Priority Mail Contract 91

Priority Mail Contract 92

Priority Mail Contract 93

Priority Mail Contract 94

Priority Mail Contract 95

Priority Mail Contract 96

Priority Mail Contract 97

Priority Mail Contract 98

Priority Mail Contract 99

Priority Mail Contract 100

Priority Mail Contract 101

Priority Mail Contract 102

Priority Mail Contract 103

Priority Mail Contract 104

Priority Mail Contract 105

Priority Mail Contract 106

Priority Mail Contract 107

Priority Mail Contract 108

Priority Mail Contract 109

Priority Mail Contract 110

Priority Mail Contract 111

Priority Mail Contract 112

Priority Mail Contract 113

Priority Mail Contract 114

Priority Mail Contract 115

Priority Mail Contract 116

Priority Mail Contract 117

Priority Mail Contract 118

Priority Mail Contract 119

Priority Mail Contract 120

Priority Mail Contract 121

Priority Mail Contract 122

Priority Mail Contract 123

Priority Mail Contract 124

Priority Mail Contract 125

Priority Mail Contract 126

Priority Mail Contract 127

Priority Mail Contract 128

Priority Mail Contract 129

Priority Mail Contract 130

Priority Mail Contract 131

Priority Mail Contract 132

Priority Mail Contract 133

Priority Mail Contract 134

Priority Mail Contract 135

Priority Mail Contract 136

Priority Mail Contract 137

Priority Mail Contract 138

Priority Mail Contract 139

Priority Mail Contract 140

Priority Mail Contract 141

Priority Mail Contract 142

Priority Mail Contract 143

Priority Mail Contract 144

Priority Mail Contract 145

Priority Mail Contract 146

Priority Mail Contract 147

Priority Mail Contract 148

Priority Mail Contract 149

Priority Mail Contract 150

Priority Mail Contract 151

Priority Mail Contract 152

Priority Mail Contract 153

Priority Mail Contract 154

Priority Mail Contract 155

Priority Mail Contract 156

Priority Mail Contract 157

Priority Mail Contract 158

Priority Mail Contract 159

Priority Mail Contract 160

Priority Mail Contract 161

Priority Mail Contract 162

Priority Mail Contract 163

Priority Mail Contract 164

Priority Mail Contract 165

Priority Mail Contract 166

Priority Mail Contract 167

Priority Mail Contract 168

Priority Mail Contract 169

Priority Mail Contract 170

Priority Mail Contract 171

Priority Mail Contract 172

Priority Mail Contract 173

Priority Mail Contract 174

Priority Mail Contract 175

Priority Mail Contract 176

Priority Mail Contract 177

Priority Mail Contract 178

Priority Mail Contract 179

Priority Mail Contract 180

Priority Mail Contract 181

Priority Mail Contract 182

Priority Mail Contract 183

Priority Mail Contract 184

Priority Mail Contract 185

Priority Mail Contract 186

Priority Mail Contract 187

Priority Mail Contract 188

Priority Mail Contract 189

Priority Mail Contract 190

Priority Mail Contract 191

Priority Mail Contract 192

Priority Mail Contract 193

Priority Mail Contract 194

Priority Mail Contract 195

Priority Mail Contract 196

Priority Mail Contract 197

Priority Mail Contract 198

Priority Mail Contract 199

Priority Mail Contract 200

Priority Mail Express & Priority Mail Contract 10

Priority Mail Express & Priority Mail Contract 12

Priority Mail Express & Priority Mail Contract 13

Priority Mail Express & Priority Mail Contract 14

Priority Mail Express & Priority Mail Contract 16

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Priority Mail Express & Priority Mail Contract 26

Priority Mail Express & Priority Mail Contract 27

Priority Mail Express & Priority Mail Contract 28

Parcel Select & Parcel Return Service Contract 3

Parcel Select & Parcel Return Service Contract 5

Parcel Select Contract 2

Parcel Select Contract 5

Parcel Select Contract 7

Parcel Select Contract 8

Parcel Select Contract 9

Parcel Select Contract 10

Parcel Select Contract 11

Parcel Select Contract 12

Parcel Select Contract 13

Parcel Select Contract 14

Priority Mail—Non-Published Rates

Priority Mail—Non-Published Rates 1

First-Class Package Service Contract 35

First-Class Package Service Contract 36

First-Class Package Service Contract 37

First-Class Package Service Contract 38

First-Class Package Service Contract 39

First-Class Package Service Contract 40

First-Class Package Service Contract 41

First-Class Package Service Contract 42

First-Class Package Service Contract 43

First-Class Package Service Contract 44

First-Class Package Service Contract 45

First-Class Package Service Contract 46

First-Class Package Service Contract 47

Priority Mail Express, Priority Mail & First-Class Package Service Contract 2

Priority Mail Express, Priority Mail & First-Class Package Service Contract 3

Priority Mail Express, Priority Mail & First-Class Package Service Contract 4

Priority Mail Express, Priority Mail & First-Class Package Service Contract 5

Priority Mail Express, Priority Mail & First-Class Package Service Contract 6

Priority Mail Express, Priority Mail & First-Class Package Service Contract 7

Priority Mail Express, Priority Mail & First-Class Package Service Contract 8

Priority Mail Express, Priority Mail & First-Class Package Service Contract 9

Priority Mail & First-Class Package Service Contract 2

Priority Mail & First-Class Package Service Contract 3

Priority Mail & First-Class Package Service Contract 4

Priority Mail & First-Class Package Service Contract 5

Priority Mail & First-Class Package Service Contract 6

Priority Mail & First-Class Package Service Contract 7

Priority Mail & First-Class Package Service Contract 8

Priority Mail & First-Class Package Service Contract 9

Priority Mail & First-Class Package Service Contract 10

Priority Mail & First-Class Package Service Contract 11

Priority Mail & First-Class Package Service Contract 12

Priority Mail & First-Class Package Service Contract 13

Priority Mail & First-Class Package Service Contract 14

Priority Mail & First-Class Package Service Contract 15

Priority Mail & First-Class Package Service Contract 16

Outbound International *

Global Expedited Package Services (GEPS) Contracts

GEPS 3

Global Bulk Economy (GBE) Contracts

Global Plus Contracts

Global Plus 1C

Global Plus 2C

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Competitive International Merchandise Return Service Agreements with Foreign Postal Operators 1

Competitive International Merchandise Return Service Agreements with Foreign Postal Operators 2

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

International Merchandise Return Service (IMRS)—Non-Published Rates

Customized Delivery

Subpart B—Requests Initiated by the Postal Service To Modify the Product Lists

3. Revise the heading of subpart B to read as set forth above.

4. Revise § 3020.30 to read as follows:

§ 3020.30 General.

The Postal Service, by filing a request with the Commission, may propose a modification to the market dominant product list or the competitive product list. For purposes of this part, modification shall be defined as adding a product to a list, removing a product from a list, or moving a product from one list to the other list.

Subpart C—Requests Initiated by Users of the Mail To Modify the Product Lists

5. Revise the heading of subpart C as set forth above.

6. Revise § 3020.50 to read as follows:

§ 3020.50 General.

Users of the mail, by filing a request with the Commission, may propose a modification to the market dominant product list or the competitive product list. For purposes of this part, modification shall be defined as adding a product to a list, removing a product from a list, or transferring a product from one list to the other list.

Subpart D—Proposal of the Commission To Modify the Product Lists

7. Revise the heading of subpart D as set forth above.

Subpart D—Proposal of the Commission To Modify the Product Lists

8. Revise § 3020.70 to read as follows:

§ 3020.70 General.

The Commission, of its own initiative, may propose a modification to the market dominant product list or the competitive product list. For purposes of this part, modification shall be defined as adding a product to a list, removing a product from a list, or transferring a product from one list to the other list.

[FR Doc. 2016-08322 Filed 4-11-16; 8:45 am]

BILLING CODE 7710-FW-P